DEPARTMENT OF HEALTH AND HUMAN SERVICES

[Document Identifier: OS-0990-New]

Agency Emergency Information Collection Clearance Request for Public Comment

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 30 days.

Proposed Project: Evaluation of SAMHSA Primary Care Behavioral Health Integration Grant Program. Emergency Information Collection Clearance Request—OMB No. 0990-NEW-Assistant Secretary for Planning and Evaluation .

Abstract: The Assistant Secretary for Planning and Evaluation (ASPE) and the Substance Abuse and Mental Health Administration are funding an independent evaluation of the Substance Abuse and Mental Health Administration/Center for Mental Health Services' (SAMHSA/CMHS) Primary Care Behavioral Health Integration (PBHCI) grant program. Four-year PBHCI grants were awarded to thirteen grantees on October 1, 2009. A second group of nine grants and a third group of up to 38 additional grants will be awarded prior to October 1, 2010. The purpose of the PBHCI grants is to improve the overall wellness and physical health status of people with serious mental illnesses (SMI), including individuals with co-occurring substance use disorders, by supporting communities to coordinate and integrate primary care services into publicly funded community mental health and other community-based behavioral health settings. The information collected through the evaluation will assist SAMHSA in assessing whether integrated primary care services produce improvements in the physical and mental health of the SMI population receiving services from community-based behavioral health agencies.

Estimated Annualized Burden Table
Form | Number of respondents | Number of responses per respondent | Average burden per response (hours) | Total annual burden (hours)
Client exam/survey (control group, 1st cohort) | 900 | 1 | 45/60 | 675
Client service report | 63 | 4 | 8.00 | 2,016
Quarterly reports | 60 | 4 | 2.00 | 480
New TRAC indicators | 60 | 200 | 0.08 | 960
Leadership | 9 | 1 | 2.00 | 18
PH Providers | 9 | 1 | 1.50 | 14
MH Providers | 9 | 1 | 1.00 | 9
Care Coordinators | 6 | 1 | 1.50 | 9
Site visit interview (1st cohort, control sites) | 15 | 1 | 2.00 | 30
Total | 1,131 |  |  | 4,211

Seleda M. Perryman,
Office of the Secretary, Paperwork Reduction Act Reports Clearance Officer.

[FR Doc. 2010-30516 Filed 12-6-10; 8:45 am]

BILLING CODE 4150-05-P